DEFENSE NUCLEAR FACILITIES SAFETY BOARD

Sunshine Act Meeting

AGENCY: Defense Nuclear Facilities Safety Board.

ACTION: Notice of public business meeting.

SUMMARY: Pursuant to the provisions of the “Government in the Sunshine Act,” notice is hereby given of the Defense Nuclear Facilities Safety Board's (Board) public business meeting described below.

DATES: Time and Date of Meeting: 9 a.m.-12:30 p.m., October 30, 2014.

ADDRESSES: Place: Defense Nuclear Facilities Safety Board, 625 Indiana Avenue NW., Suite 352, Washington, DC 20004-2901.

FOR FURTHER INFORMATION CONTACT: Mark Welch, General Manager, Defense Nuclear Facilities Safety Board, 625 Indiana Avenue NW., Suite 700, Washington, DC 20004-2901, (800) 788-4016. This is a toll-free number.

SUPPLEMENTARY INFORMATION: Status: Open.

Matters to be Considered: This public business meeting will be conducted pursuant to the Government in the Sunshine Act, the Board's implementing regulations for the Government in the Sunshine Act, and the Board's Procedures dated February 2014. The meeting will proceed in accordance with the previously approved business meeting agenda. The Board will receive testimony from the agency Office Directors and the technical staff group leaders. First, the Board's General Manager will report to the Board concerning the Office of the General Manager's draft Fiscal Year (FY) 2015 Work Plan. Next, the Board's Acting General Counsel will report to the Board on the Office of the General Counsel's draft FY 2015 Work Plan. The Board's Technical Director and the five technical group leaders will then report to the Board on the Office of the Technical Director's draft FY 2015 Work Plan. The five groups within the Office of the Technical Director include the Nuclear Weapons Program group, the Nuclear Materials Processing and Stabilization group, the Nuclear Facility Design and Infrastructure group, the Nuclear Programs and Analysis group, and the Performance Assurance group. Finally, the General Manager will report to the Board on the Board's draft FY 2015 Staffing Plan. Following each of the Office Director presentations, and as described in the business meeting agenda, Board members may enter into discussions and move to amend the Work Plan presented by that Office Director. Following conclusion of amendments and deliberations, the Board is expected to vote on whether to approve or disapprove the individual Work Plans. The Board will also deliberate and vote on whether to approve or disapprove the Board's Staffing Plan.

The business meeting agenda is posted on the Board's public Web site. The public is invited to view this business meeting and provide comments at the conclusion of the meeting at approximately 12:15 p.m. A transcript of the business meeting, along with a DVD video recording, will be made available by the Board for inspection and viewing by the public at the Board's Washington office. The Board specifically reserves its right to further schedule and otherwise regulate the course of the business meeting, to recess, reconvene, postpone, or adjourn the meeting, conduct further reviews, and otherwise exercise its rights under the Government in the Sunshine Act and the Board's Procedures.

Dated: October 17, 2014.
Peter S. Winokur,
Chairman.

[FR Doc. 2014-25197 Filed 10-20-14; 11:15 am]

BILLING CODE 3670-01-P